FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 24, 2000.

A. Federal Reserve Bank of Minneapolis (JoAnne F. Lewellen, Assistant Vice President) 90 Hennepin Avenue, Minneapolis, Minnesota 55480-0291:

1. William E. Coffee, Billings, Montana, individually and as trustee for the following trusts: Coffee Family Trust I, Coffee Family Trust II, Nefsy Family Trust I, Nefsy Family Trust II, and Nefsy Family Trust III, and the following trusts acting in concert: Coffee Family Trust I, Coffee Family Trust II, Nefsy Family Trust I, and Nefsy Family Trust III, all of Billings, Montana, to acquire voting shares of Stockman Financial Corporation, Miles City, Montana, and thereby indirectly acquire voting shares of Stockman Bank of Montana, Miles City, Montana.

Board of Governors of the Federal Reserve System, November 3, 2000.
Robert deV. Frierson,
Associate Secretary of the Board.

[FR Doc. 00-28765 Filed 11-8-00; 8:45 am]

BILLING CODE 6210-01-P